FEDERAL COMMUNICATIONS COMMISSION

[CC Docket No. 92-237; DA 03-3106]

GSA Approves Renewal of North American Numbering Council Charter Through October 4, 2005

AGENCY: Federal Communications Commission.

ACTION: Notice.

SUMMARY: On October 9, 2003, the Commission released a public notice announcing GSA approves renewal of North American Numbering Council charter through October 4, 2005. The intended effect of this action is to make the public aware of the renewal of the North American Numbering Council charter.

DATES: Renewed through October 4, 2005.

ADDRESSES: Telecommunications Access Policy Division, Wireline Competition Bureau, Federal Communications Commission, The Portals II, 445 12th Street, SW., Suite 5-A420, Washington, DC 20554.

FOR FURTHER INFORMATION CONTACT: Deborah Blue, Special Assistant to the Designated Federal Officer (DFO) at (202) 418-1466 or dblue@fcc.gov. The fax number is: (202) 418-2345. The TTY number is: (202) 418-0484.

SUPPLEMENTARY INFORMATION: Released October 9, 2003.

The GSA has renewed the charter of the North American Numbering Council (Council) through October 4, 2005. The Council will continue to advise the Federal Communications Commission (Commission) on rapidly evolving and competitively significant numbering issues facing the telecommunications industry.

In October 1995, the Commission established the North American Numbering Council, a federal advisory committee created pursuant to the Federal Advisory Committee Act, 5 U.S.C., App. 2 (1988), to advise the Commission on issues related to North American Numbering Plan (NANP) administration in the United States, including local number portability administration issues. The original charter of the Council was effective on October 5, 1995, establishing an initial two-year term. The first amended charter was effective on October 5, 1997, renewing the term of the Council for two years. The second amended charter was effective on October 5, 1999, renewing the term of the Council for two years. The third amended charter was effective October 5, 2001, renewing the term of the Council again for two years.

Since the last charter renewal, the Council has provided the Commission with critically important recommendations regarding numbering issues. During the term of the prior amended charter, the Council made recommendations on issues which included: (1) Local Number Portability provisioning flows; (2) Management and Ownership of the Centralized Toll Free Database by an LLC; (3) Use of Telephone Numbers as a Universal Service Fund Allocator; (4) review of the definition of Intermediate Numbers; (5) impact of Soft Dial Tone service; (6) costs and benefits of numbering resource optimization proposals to expand the NANP beyond 10 digits; (7) technical viability of increasing the Pooling Contamination Threshold; (8) Pooling Administration System Forecasting Requirements; (9) Grandfathered Wireless NXX Codes; (10) NPAC Change Management Administration; (11) possible “Jeopardy” for Wireless Number Pooling and Portability Deadline; and (12) Technical Requirements for the North American Numbering Plan Administrator (NANPA). In May 2002 and May 2003, the Council provided a detailed evaluation of the NANPA's performance for the periods January 2001-December 2001 and January 2002-December 2002, respectively. The Council will continue to evaluate NANPA's performance annually.

Moreover, the Council is presently considering and formulating recommendations on other important numbering-related issues that will require work beyond the term of the present charter. The term of the Council's renewed charter begins October 5, 2003 and runs through October 4, 2005.

The value of this federal advisory committee to the telecommunications industry and to the American public cannot be overstated. Numbers are the means by which consumers gain access to, and reap the benefits of, the public switched telephone network. The Council's recommendations to the Commission will facilitate fair and efficient numbering administration in the United States, and will ensure that numbering resources are available to all telecommunications service providers on a fair and equitable basis, consistent with the requirements of the Telecommunications Act of 1996.

Federal Communications Commission.
Cheryl L. Callahan,
Assistant Chief, Telecommunications Access Policy Division, Wireline Competition Bureau.

[FR Doc. 03-26961 Filed 10-24-03; 8:45 am]

BILLING CODE 6712-01-P